DEPARTMENT OF ENERGY

Federal Energy Regulatory Commission

[Project No. 5698-022]

Triton Power Company; Notice of Continuation of Relicense Proceeding

On December 31, 2020, Triton Power Company (Triton), licensee for the Chateaugay High Falls Hydroelectric Project No. 5698 (project), filed a notice of intent (NOI) to file an application for a new license for the project pursuant to section 15(b)(1) of the Federal Power Act (FPA).¹ On February 26, 2021, Commission staff issued public notice of the NOI and approved the use of the traditional licensing process to develop the license application.

¹ 16 U.S.C. 808(b)(1).

Pursuant to section 15(c)(1) of the FPA ² and section 16.9 of the Commission's regulations,³ an existing licensee must file an application for a new license at least 24 months prior to the expiration of the current license. The current license for the project expires on December 31, 2025,⁴ so the deadline for filing an application for a new license was December 31, 2023. Triton did not file an application for a new license by the filing deadline.

² 16 U.S.C. 808(c)(1).

³ 18 CFR 16.9 (2023).

⁴ Triton Power Company, 34 FERC ¶ 61,055 (1986).

After Triton failed to file a timely license application, on January 12, 2024, the Commission issued a notice soliciting applications from potential applicants other than the existing licensee, pursuant to sections 16.24(a)(2) and 16.25(a) of the Commission's regulations.⁵ Notices of intent to file an application for a new license were due by April 11, 2024. No potential applicants other than the existing licensee filed a notice of intent for the project.

⁵ 18 CFR 16.24(a), 16.25(a) (2023).

In comments filed on January 31, 2024, Triton states that it was not able to file a timely license application due to a number of extenuating circumstances, but it intends to file a license application as soon as possible.⁶ On April 26, 2024, Triton filed another letter stating that it intends to resume the relicensing process and file a license application for the project.

⁶ We consider Triton's January 31, 2024 letter to be a notice of intent under section 16.25(a).

Because no other potential applicant filed a notice of intent to file an application for the project in response to the January 12 notice, we are waiving sections 16.24(a)(2) and 16.25(a) of the Commission's regulations that bar an existing licensee that missed the two-year application filing deadline from filing an application.⁷ An application for a new license for the project may be filed within 18 months of Triton's January 31 filing (i.e., by July 31, 2025).⁸ Failure to file an application by July 31, 2025, may result in Triton being directed to file a schedule for filing a surrender application pursuant to section 16.25(c)(2) of the Commission's regulations.

⁷ See Pacific Gas and Electric Co., 98 FERC ¶ 61,032 (2002), reh'g denied, 99 FERC ¶ 61,045, aff'd, City of Fremont v. FERC, 336 F.3d 910 (9th Cir. 2003).

⁸ See 18 CFR 16.25(b)(1).

Questions concerning this notice should be directed to Arash Barsari at (202) 502-6207 or email at Arash.JalaliBarsari@ferc.gov.

Dated: April 30, 2024.
Debbie-Anne A. Reese,
Acting Secretary.

[FR Doc. 2024-09828 Filed 5-6-24; 8:45 am]

BILLING CODE 6717-01-P